DEPARTMENT OF COMMERCE

International Trade Administration

[A-570-901]

Certain Lined Paper Products From the People's Republic of China: Extension of Time Limits for the Final Results of Antidumping Duty Administrative Review

AGENCY: Import Administration, International Trade Administration, Department of Commerce.

FOR FURTHER INFORMATION CONTACT: Cindy Robinson or Stephanie Moore, AD/CVD Operations, Office 3, Import Administration, International Trade Administration, U.S. Department of Commerce, 14th Street and Constitution Ave, NW., Washington, DC 20230; telephone: (202) 482-3797 or (202) 482-3692, respectively.

Background

On October 18, 2010, the U.S. Department of Commerce (“Department”) published the preliminary results of the antidumping duty administrative review on certain lined paper products (“CLPP”) from the People's Republic of China (“PRC”), covering the period September 1, 2008, to August 31, 2009. See Certain Lined Paper Products From the People's Republic of China: Notice of Preliminary Results of the Antidumping Duty Administrative Review, 75 FR 63814 (October 18, 2010). The final results of review are currently due on February 15, 2011.

Extension of Time Limits for the Final Results

Section 751(a)(3)(A) of the Tariff Act of 1930, as amended (“the Act”), requires the Department to issue final results within 120 days after the date on which the preliminary results are published. However, if it is not practicable to complete the review within this time period, section 751(a)(3)(A) of the Act allows the Department to extend the time period to a maximum of 180 days. Completion of the final results of the administrative review within the 120-day period is not practicable because an issue arose late in the proceeding regarding improperly submitted business proprietary information. This issue requires the rejection and resubmission of briefs. The Department will need additional time to ensure proper treatment of this information.

Given that the parties have been provided additional time to submit a brief and a rebuttal in this case, only upon receipt of those submissions will the Department be able to consider the arguments raised by parties. This will require additional time for the Department to address the claims in the case and rebuttal briefs the parties will file. Because it is not practicable to complete this review within the time specified under the Act, we are extending the time period for issuing the final results of the administrative review to 180 days, until April 18, 2011, in accordance with section 751(a)(3)(A) of the Act.

We are publishing this notice pursuant to sections 751(a) and 777(i) of the Act.

Dated: January 31, 2011.
Christian Marsh,
Deputy Assistant Secretary for Antidumping and Countervailing Duty Operations.

[FR Doc. 2011-2524 Filed 2-3-11; 8:45 am]

BILLING CODE 3510-DS-P